DEPARTMENT OF THE TREASURY

Submission for OMB Review; Comment Request

December 18, 2014.

The Department of the Treasury will submit the following information collection requests to the Office of Management and Budget (OMB) for review and clearance in accordance with the Paperwork Reduction Act of 1995, Public Law 104-13, on or after the date of publication of this notice.

DATES: Comments should be received on or before January 22, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by emailing PRA@treasury.gov, calling (202) 622-1295, or viewing the entire information collection request at www.reginfo.gov.

Financial Crimes Enforcement Network (FinCEN)

OMB Number: 1506-0001.

Type of Review: Extension without change of a currently approved collection.

Title: Suspicious Activity Report by Depository Institutions.

Abstract: Under 31 CFR 1020.320, FinCEN requires depository institutions, to report on a consolidated form, to a single location, reports of suspicious transactions. The Form 111 (see 1506-0065) is used by criminal investigators, and taxation and regulatory enforcement authorities, during the course of investigations involving financial crimes. This action renews the regulation only.

Affected Public: Private Sector: Businesses or other for-profits; not-for-profit institutions.

Estimated Annual Burden Hours: 1.

OMB Number: 1506-0004.

Type of Review: Extension without change of a currently approved collection.

Title: Currency Transaction Reports.

Abstract: Financial institutions file FinCEN Form 112 (see 1506-0064) for currency transactions in excess of $10,000 a day pursuant to 31 U.S.C. 5313(a) and 31 CFR 1010.311(a)(b). The form is used by criminal investigators, and taxation and regulatory enforcement authorities, during the course of investigations involving financial crimes. This action renews the regulation only.

Affected Public: Private Sector: Businesses or other for-profits; not-for-profit institutions.

Estimated Annual Burden Hours: 1.

OMB Number: 1506-0005.

Type of Review: Extension without change of a currently approved collection.

Title: Currency Transaction Report by Casinos.

Abstract: Casinos and card clubs file FinCEN Form 112 (see 1506-0064) for currency transactions in excess of $10,000 a day pursuant to 31 U.S.C. 5313(a) and 31 CFR 1010.311. The form is used by criminal investigators, and taxation and regulatory enforcement authorities, during the course of investigations involving financial crimes. This action renews the regulation only.

Affected Public: Private Sector: Businesses or other for-profits.

Estimated Annual Burden Hours: 1.

OMB Number: 1506-0006.

Type of Review: Extension without change of a currently approved collection.

Title: Suspicious Activity Report by Casinos and Card Clubs.

Abstract: Under 31 CFR 1021.320, the Treasury is requiring casinos and card clubs with annual gaming revenue of more than $1,000,000 to report suspicious activities. The FinCEN Form 111 (see 1506-0065) is used by criminal investigators, and taxation and regulatory enforcement authorities, during the course of investigations involving financial crimes. This action renews the regulation only.

Affected Public: Private Sector: Businesses or other for-profits.

Estimated Annual Burden Hours: 1.

OMB Number: 1506-0029.

Type of Review: Extension without change of a currently approved collection.

Title: Suspicious Activity Report by Insurance Companies.

Abstract: Title 31 CFR 1025.320 requires insurance companies to report suspicious activities to the Financial Crimes Enforcement Network. FinCEN Form 111 (see 1506-0065) is an aid to this required reporting providing the filer with a guide in completing this reporting requirement. The form is used by criminal investigators, and taxation and regulatory enforcement authorities, during the course of investigations involving financial crimes. This action renews the regulation only.

Affected Public: Private Sector: Businesses or other for-profits.

Estimated Annual Burden Hours: 1.

Dawn D. Wolfgang,
Treasury PRA Clearance Officer.

[FR Doc. 2014-30001 Filed 12-22-14; 8:45 am]

BILLING CODE 4810-02-P